DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed extension of the “Census of Fatal Occupational Injuries.” A copy of the proposed information collection request can be obtained by contacting the individual listed below in the ADDRESSES section of this notice.

DATES: Written comments must be submitted to the office listed in the ADDRESSES section of this notice on or before June 9, 2025.

ADDRESSES: Send comments to Nora Kincaid, BLS Clearance Officer, Division of Management Systems, Bureau of Labor Statistics, by email to BLS_PRA_Public@bls.gov.

FOR FURTHER INFORMATION CONTACT: Nora Kincaid, BLS Clearance Officer, at 202-691-7628 (this is not a toll-free number). (See ADDRESSES section.)

SUPPLEMENTARY INFORMATION:

I. Background

The Bureau of Labor Statistics (BLS) was delegated responsibility by the Secretary of Labor for implementing Section 24(a) of the Occupational Safety and Health Act of 1970. This section states that “the Secretary shall compile accurate statistics on work injuries and illnesses which shall include all disabling, serious, or significant injuries and illnesses . . .”

Prior to the implementation of the Census of Fatal Occupational Injuries (CFOI), the BLS generated estimates of occupational fatalities for private sector employers from a sample survey of about 280,000 establishments. Studies showed that occupational fatalities were underreported in those estimates as well as in those compiled by regulatory, vital statistics, and workers' compensation systems. Estimates prior to the CFOI varied widely, ranging from 3,000 to 10,000 fatal work injuries annually. In addition, information needed to develop prevention strategies were often missing from these earlier programs.

In the late 1980s, the National Academy of Sciences study, Counting Injuries and Illnesses in the Workplace, and another report, Keystone National Policy Dialogue on Work-Related Illness and Injury Recordkeeping, emphasized the need for the BLS to compile a complete roster of work-related fatalities because of concern over the accuracy of using a sample survey to estimate the incidence of occupational fatalities. These studies also recommended the use of all available data sources to compile detailed information for fatality prevention efforts.

The BLS tested the feasibility of collecting fatality data in this manner in 1989 and 1990. The resulting CFOI was implemented in 32 states in 1991. National data covering all 50 states, New York City, the District of Columbia, and three U.S. Territories have been compiled and published annually since 1992.

The CFOI compiles comprehensive, accurate, and timely information on fatal work injuries needed to develop effective prevention strategies. The system collects information concerning the incident, demographic information of the deceased, and characteristics of the employer.

CFOI data are used to:

• Develop employee safety training programs.

• Develop and assess the effectiveness of safety standards.

• Conduct research for developing prevention strategies.

In addition, state partners use the data to publish state reports, to identify state-specific hazards, to allocate resources for promoting safety in the workplace, and to evaluate the quality of work life in the state.

II. Current Action

Office of Management and Budget clearance is being sought for the Census of Fatal Occupational Injuries.

In 2023, 5,283 workers lost their lives because of fatal work injuries. This official systematic, verifiable count mutes controversy over the various counts from different sources. The CFOI count has been adopted by the National Safety Council and other organizations as the sole source of a comprehensive count of fatal work injuries for the U.S. If this information were not collected, confusion over the number and patterns in fatal occupational injuries would hamper prevention efforts. By providing timely occupational fatality data, the CFOI provides safety and health managers the information necessary to respond to emerging workplace hazards.

During 2024, the BLS national office responded to 88 requests for CFOI data from various organizations. (This figure excludes requests received by states for state-specific data.) In addition, the CFOI page of the BLS website averaged about 8,084 users per month in 2024.

National office staff also responded to numerous requests from safety organizations for staff members to participate in safety conferences and seminars. The CFOI research file, made available to safety and health groups, is being used by 4 organizations. Study topics include fatalities by worker demographic category (young workers, older workers, Hispanic workers); by occupation or industry (construction workers, police officers, firefighters, landscaping workers, workers in oil and gas extraction); by event (heat-related fatalities, fatalities from workplace violence, suicides, falls from height); or other research such as safety and health program effectiveness and the impact of fatality risk on wages. A current list of research articles and reports that include CFOI data can be found at: https://www.bls.gov/iif/publications-overview.htm.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Census of Fatal Occupational Injuries.

OMB Number: 1220-0133.

Type of Review: Extension.

Affected Public: Federal government; Individuals or households; Private sector (Business or other for-profits, Not-for-profit institutions, Farms); State, local, or tribal governments.

Form | Total respondents | Frequency | Total responses | Average time per response (minutes) | Estimated total burden (hours)
Form BLS CFOI-1 | 205 | On Occasion | 205 | 20 | 69
Source Documents | 227 | On Occasion | 15,867 | 10 | 2,713
Totals | 432 |  | 16,072 |  | 2,782

Comments submitted in response to this notice will be summarized and/or included in the request for Office of Management and Budget approval of the information collection request; they also will become a matter of public record.

Signed at Washington, DC, on April 3, 2025.
Eric Molina,
Chief, Division of Management Systems, Branch of Policy Analysis.

[FR Doc. 2025-06124 Filed 4-9-25; 8:45 am]

BILLING CODE 4510-24-P